DEPARTMENT OF AGRICULTURE

Rural Utilities Service

[Docket Number: RUS-23-Telecom-0022]

Notice of Funding Opportunity for the Rural eConnectivity Program for Fiscal Year 2024

AGENCY: Rural Utilities Service, USDA.

ACTION: Notice of funding opportunity.

SUMMARY: The Rural Utilities Service (RUS, Agency), a Rural Development (RD) agency of the United States Department of Agriculture (USDA), announces acceptance of applications under the Rural eConnectivity (ReConnect) program for fiscal year (FY) 2024. These loan and grant funds will be awarded to qualified applicants to fund the costs of construction, improvement, or acquisition of facilities and equipment needed to provide broadband service.

DATES: Beginning on March 22, 2024, applications can be submitted through the RUS on-line application portal until 11:59 a.m. Eastern on April 22, 2024. Late or incomplete applications will not be accepted.

ADDRESSES: Applications must be submitted electronically through the RUS Application Intake System located at usda.gov/reconnect. A synopsis of this notice of funding opportunity (NOFO) will be made available on grants.gov.

FOR FURTHER INFORMATION CONTACT: For general inquiries regarding the ReConnect Program, contact Laurel Leverrier, Assistant Administrator, Telecommunications Program, Rural Utilities Service, U.S. Department of Agriculture (USDA), email: laurel.leverrier@usda.gov, telephone: (202) 720-9554.

For inquiries regarding eligibility concerns, please contact the ReConnect Program Staff at usda.gov/reconnect/contact-us.

SUPPLEMENTARY INFORMATION:

Overview

Federal Awarding Agency Name: Rural Utilities Service.

Funding Opportunity Title: Rural eConnectivity (ReConnect) Program.

Announcement Type: Notice of Funding Opportunity (NOFO).

Funding Opportunity Number: RUS-REC-2024-1.

Assistance Listing: 10.752.

Dates: Beginning on March 22, 2024, applications can be submitted through the RUS on-line application portal until 11:59 a.m. Eastern on April 22, 2024.

Rural Development Key Priorities: The Agency encourages applicants to consider projects that will advance the following key priorities (more details available at rd.usda.gov/priority-points):

• Assisting rural communities recover economically through more and better market opportunities and through improved infrastructure;

• Ensuring all rural residents have equitable access to Rural Development (RD) programs and benefits from RD funded projects; and

• Reducing climate pollution and increasing resilience to the impacts of climate change through economic support to rural communities.

A. Program Description

1. Purpose of the Program. The ReConnect program provides loans, grants, and loan/grant combinations to facilitate broadband deployment in rural areas. In facilitating the expansion of broadband services and infrastructure, the program will fuel long-term rural economic development and opportunities in rural America.

2. Statutory and Regulatory Authority. The ReConnect program is authorized under the Consolidated Appropriations Act, 2018 (Pub. L. 115-141), which directs the program to be conducted under the Rural Electrification Act of 1936 (7 U.S.C. 901 et seq.). The ReConnect program is implemented by the ReConnect Regulations at 7 CFR part 1740. Applicants should carefully review those rules in conjunction with this notice.

3. Definitions. The definitions applicable to this NOFO are published at 7 CFR 1740.2 and as provided below.

Alaska Native Corporation means an Alaska Native Regional Corporation or an Alaska Native Village Corporation pursuant to the Alaska Native Claims Settlement Act, 43 U.S.C. 1602(g) and (j).

Enforceable commitment means a legally enforceable obligation by any federal, state, or local agency, utilizing Federal Funds, to provide broadband service with speeds of at least 100 megabits per second (Mbps) downstream and 20 (Mbps) upstream. Enforceable commitments do not negate the Agency's intention to coordinate and communicate with federal partners before extending an offer to ensure awards made under this round do not duplicate awards made by other federal and state partners. USDA will coordinate with the National Telecommunications and Information Administration (NTIA), states, and grantees to ensure that ReConnect and the Broadband Equity, Access, and Deployment (BEAD) Program complement one another. To that end, RUS will notify NTIA and the state at least 30 days in advance of any award in that state and request that the state notify RUS of an objection based on any pending subgrantees. In such cases, if the objection is not resolved, it may result in the rejection of the ReConnect application to avoid duplication of funding. USDA is committed to work with ReConnect applicants and its federal and state partners to ensure awards can still be made as part of this coordinated effort, and expects that ReConnect funds will largely be directed to those states and territories in which there is the greatest need.

Federal Funds means any federally appropriated funds, and subsidies and fees managed by the Federal Communications Commission (FCC), to promote universal access and any Federal Broadband Support Program, as defined by the ACCESS BROADBAND Act.

Local government means the administration of a particular town, county, or district, with representatives elected by those who live there.

Persistent Poverty County is defined as any county with 20 percent or more of its population living in poverty over the past 30 years, as measured by the 1990 and 2000 decennial censuses, and the 2007-2011 American Community Survey 5-year average, or any territory or possession of the United States.

Premises, as defined in the ReConnect Regulation at 7 CFR 1740.2(a), means households, farms, and businesses.

Socially Vulnerable Community means a community or area identified in the Center for Disease Control's Social Vulnerability Index with a score of .75 or higher. For the purposes of this notice, Puerto Rico, Guam, American Samoa, the Northern Mariana Islands, Palau, the Marshall Islands, the Federated States of Micronesia, the U.S. Virgin Islands, and Hawaiian Census Tribal areas are considered to be Socially Vulnerable Communities. A Geographic Information System (GIS) layer identifying the Socially Vulnerable Communities can be found at usda.gov/reconnect.

Sufficient access to broadband means any rural area in which households have wired or licensed terrestrial fixed wireless broadband service defined as 25 Mbps downstream and 3 Mbps upstream.

System requirements. Facilities proposed to be constructed with ReConnect award funds must be capable of delivering 100 Mbps symmetrical service to every premises at the same time in the Proposed Funded Service Area (PFSA).

Tribal Government means the governing body of an Indian or Alaska Native tribe, band, nation, pueblo, village, or community listed pursuant to the Federally Recognized Indian Tribe List Act of 1994, 25 U.S.C. 5130.

Tribal Land means any area identified by the United States Department of Interior as tribal land over which a Tribal Government exercises jurisdiction. A GIS layer of most Tribal Lands can be found on the RUS mapping tool located at usda.gov/reconnect.

4. Application of Awards. The Agency will review and evaluate applications received in response to this notice based on the program regulations at 7 CFR 1740. Grant and combination loan/grant applications will be scored and awarded on a competitive basis using the criteria in section E.1 of this notice. Awards in the 100 percent loan category will be made on a first-come, first-served basis after the application window closes. The Agency advises all interested parties that each applicant bears the full burden of preparing and submitting an application in response to this notice.

B. Federal Award Information

1. Type of Award. Loan, grant, or loan/grant combination.

2. Fiscal Year Funds. Funding includes carryover funds from previous Fiscal Years and any additional funds received during Fiscal Year 2024.

3. Available Funds.

a. RUS may at its discretion, increase the total level of funding available in this funding round or in any category in this funding round from any available source provided the awards meet the requirements of the statute which made the funding available to the Agency.

b. For categories that do not receive applications that request the full amount of allocated funds, excess funds may be directed to another funding category at RUS's discretion, including but not limited to eligible applications not funded in FY 2023 (Round 4). Additionally, if RUS does not make awards in the full amount allocated to a category, RUS may, at its discretion, direct such excess funds to another category or round of funding.

c. 100 Percent Loan. Up to $200,000,000 is available for loans.

d. 50 Percent Loan/50 Percent Grant Combination. Up to $100,000,000 is available for loans and up to $100,000,000 is available for grants. Loan and grant amounts will always be equal.

e. 100 Percent Grant. Up to $150,000,000 is available for grants.

f. 100 Percent Grant for Alaska Native Corporations, Tribal Governments, Colonias, Persistent Poverty Areas and Socially Vulnerable Communities. Up to $150,000,000 is available for grants.

4. Funding categories, interest rates and terms. Funding parameters are outlined in 7 CFR 1740.3. Funding categories and any required match are outlined below.

a. 100 Percent Loan. Applications will be processed and awarded on a rolling basis. In the event two loan applications are received for the same PFSA, the application submitted first will be considered first. The interest rate for a 100 percent loan will be set at a fixed 2 percent. Principal and interest payments will be deferred for three years. The amortization period will be based on the composite economic life of the assets funded plus three years.

b. 50 Percent Loan/50 Percent Grant Combination. The interest rate for the 50 percent loan component will be set at the Treasury rate for the remaining amortization period at the time of each advance of funds. The latest Treasury rates for the ReConnect program can be found under U.S. government securities, available at federalreserve.gov/releases/h15/. RUS also provides the latest information on interest rates at rd.usda.gov/page/rural-utilities-loan-interest-rates#BaseRates. Loans shall bear interest equal to the cost of borrowing to the Department of Treasury for obligations of comparable maturity. Principal and interest payments will be deferred for three years. The amortization period will be based on the composite economic life of the assets funded plus three years. Applicants may propose substituting cash for the loan component at the time of application and funds must be available in the applicant's operating accounts at the closing of the award.

c. 100 Percent Grant. Applicants must provide a matching contribution of cash equal to at least 25 percent of the cost of the overall project. The applicant must clearly identify the source of the matching funds even if the match is provided from the applicant's operating accounts. All matching funds must be deposited into the applicant's operating accounts.

i. RUS has agreed to modify the grant agreement to permit awardees to deposit the required matching and other required funds into the Pledged Deposit Account (PDA) on a rolling basis as needed.

ii. If the matching funds are provided by a third party, a commitment letter from the third party must be submitted indicating that the funds will be available as needed to support the deposit of funds into the PDA. If the applicant elects to initiate a loan to satisfy the matching requirement, documentation must be included as part of the application indicating the terms and conditions for the loan and that the grant funded assets cannot be used as collateral for the matching funds loan. The loan funds must be transferred into the applicant's accounts by the closing of the award.

iii. The matching contribution can be used only for eligible purposes.

d. 100 Percent Grant for Alaska Native Corporations, Tribal Governments, Colonias, Persistent Poverty Areas and Socially Vulnerable Communities. For any application submitted under this funding category that meet one of the following criteria, no matching funds will be required:

i. Alaska Native Corporations may submit applications to provide service on land owned by the corporation.

ii. Tribal Governments may submit applications to provide service on: Tribal Lands as defined in section A(3)(j) of this notice; lands subject to restrictions on alienation imposed by the United States on Indian Lands; or land that they own, provide services to, or administer. Applicants must submit documentation supporting land ownership, services, or administration.

iii. Projects where 75 percent of the applicant's PFSA(s) are located in areas recognized as Colonia as of October 1, 1989. Colonias are identified using the GIS layer (Colonia Areas) in the RUS mapping tool located at reconnect.usda.gov.

iv. Projects where 75 percent of the applicant's PFSA(s) is located in persistent poverty counties.

v. Projects where 75 percent of the area of an applicant's PFSA(s) consists of Socially Vulnerable Communities identified on the GIS layer (Socially Vulnerable Communities) included in the RUS mapping tool located at reconnect.usda.gov.

5. Award Amounts. Maximum and minimum funding amounts are provided below for each funding category.

a. Minimum Award Amount. The minimum amount that can be requested in any funding category is $100,000.

b. 100 Percent Loan. The maximum amount that can be requested in an application is $50,000,000.

c. 50 Percent Loan/50 Percent Grant Combination. The maximum amount that can be requested in an application is $25,000,000 for the loan and $25,000,000 for the grant. Amounts requested for loans and grants must always be equal.

d. 100 Percent Grant. The maximum amount of grant funds that can be requested in an application is $25,000,000.

e. 100 Percent Grant for Alaska Native Corporations, Tribal Governments, Colonias, Persistent Poverty Areas and Socially Vulnerable Communities. The maximum amount of grant funds that can be requested in an application is $25,000,000.

6. Anticipated Award Date. By the end of the 2024 fiscal year.

7. Performance Period. The activity financed by a ReConnect award must be fully completed within five years of the date the funds are released for advance.

8. Renewal or Supplemental Awards. None.

9. Type of Assistance Instrument. Direct loan, grant, or combination loan/grant.

C. Eligibility Information

1. Eligible Applicants. Eligible applicants must meet the requirements of 7 CFR 1740.9.

2. Other.

a. Eligibility requirements for the ReConnect Program not addressed in this notice are found at 7 CFR 1740 subpart B.

b. Eligible service areas. Eligible service areas requirements are addressed in 7 CFR 1740.11(a) and below:

i. For a PFSA to be eligible for funding under this notice, at least 90 percent of the households in the PFSA must lack sufficient access to broadband as defined in this notice. In addition to identifying areas that lack sufficient access to broadband, applicants must submit evidence that sufficient access to broadband does not exist for 90 percent of the households in the PFSA, identify all existing providers in the PFSA, and indicate what level of service is being provided. Applicants are required to use the FCC's Broadband Funding Map as part of this process. If these areas are found to have sufficient service beyond the threshold, the application may be rejected.

ii. Areas that have an Enforceable Commitment at the time of publication of this notice are ineligible for ReConnect funds. However, if an applicant submits evidence that the entity that received the Enforceable Commitment has not deployed broadband service as required by the awarding Agency's regulations or award documents, the Agency may consider such area eligible for funding after consultation with the awarding agency. Areas with Enforceable Commitments are identified in a GIS layer located in the RUS mapping tool and on the FCC's National Broadband Funding Map.

iii. Areas with current broadband service from only satellite or unlicensed wireless facilities, or which have an enforceable commitment associated with only satellite or unlicensed wireless facilities, are eligible for funding under this notice.

c. Awardees that receive both other Federal or State funds and ReConnect funding must submit a statement certifying that the funds requested from ReConnect have not been and will not be reimbursed by another Federal or State award, nor used to reimburse another Federal or State award, and that the Awardee will keep separate accounts for each source of funding to track the uses of the funding to support the certification statement submitted with the ReConnect application.

d. Cybersecurity risk management. It is the policy of the United States to strengthen the security and resilience of its critical infrastructure against both physical and cyber threats. Applicants selected for Federal funding under this notice must demonstrate, prior to the signing of the award agreement, a concerted effort to consider and address cybersecurity risks consistent with the cybersecurity performance goals for critical infrastructure and control systems directed by the National Security Presidential Memorandum on Improving Cybersecurity for Critical Infrastructure Control Systems, or the current draft of these goals, found at cisa.gov/control-systems-goals-and-objectives.

e. Applicants that are receiving Enhanced Alternative Connect America Cost Model (E-ACAM) funding are only eligible for a ReConnect 100 percent loan but not grant funding. RUS will determine the eligibility of applicants that are recipients of other FCC Universal Service Fund High-Cost support programs on a case-by-case basis in accordance with the applicable High-Cost support program rules.

f. RUS, at its sole discretion, may require adjusting the PFSA and the amount requested in funding if the Agency determines that the service area, or a portion of thereof, has sufficient access to broadband or an enforceable commitment in place, consistent with Section C(2)(b)(iii) of this notice, which was not identified on the application mapping tool or on the FCC's National Broadband Funding Map at the time the application was submitted or if relevant information regarding the service area is provided to RUS by a federal, FCC, state, or Tribal entity.

D. Application and Submission Information

1. Address to Request Application Package. The ReConnect Program Guide, copies of necessary forms and samples, the RUS Application Intake System User Guide, and the ReConnect program regulation are available at usda.gov/reconnect.

2. Content and Form of Application Submission.

a. An application must contain all required elements outlined in 7 CFR 1740.60 and below. The ReConnect Program Guide provides in-depth information on the required elements. The Application Intake System User Guide provides comprehensive information on how to assemble and provide all required elements of a complete application. Carefully review this notice, the regulations, and the guides.

b. Tribal entities proposing broadband service on Tribal Lands may self-certify that sufficient access to broadband does not exist on the Tribal Lands covered under the PFSA; however, the RUS will still perform a service area validation to determine whether sufficient access to broadband exists, as required by the ReConnect authorizing statute.

c. For this notice only, Tribal entities applying for 100 percent grants that are willing to guarantee that the proposed project will be constructed do not have to submit the five-year pro forma financial projections or maps of any Non Funded Service Areas (NFSA). However, Tribal entities must submit audited financials that demonstrate the Tribe's ability to financially guarantee the completion of the project. Tribal entities that propose a guarantee will not be required to provide an irrevocable letter of credit (ILOC); however an ILOC remains an option for Tribal entities that cannot provide the required lien on grant assets.

d. For this notice only, entities applying for a 100 percent grant that can demonstrate that their last rating from either Fitch, Standard and Poor's or Moody's from the date the application is a AAA bond rating do not have to submit the five-year pro forma projections or information on NFSAs. Evidence of the bond rating must be included in the application. The date the rating is issued must be within one year from the date the application is submitted. Please note that audited financial statements are still required to be submitted with the application and as required for the award.

e. For this notice only, applicants that can demonstrate a current ratio of 2 or higher, a times interest earned ratio (TIER) of 2 or higher, a debt service coverage ratio of 2 or higher, and a Net Worth of 45% or more for the previous two years from the date the application is submitted do not have to submit the 5-year pro forma projections or information on NFSAs. Audited financial statements submitted with the application must support the necessary current ratio, TIER, debt service coverage ratios, and the Net Worth percentage. If an applicant has no outstanding debt, then only the current ratio and Net Worth requirements apply.

f. Each grant and loan/grant combination application must address the scoring criteria presented in section E(1) of this notice.

g. Tribal Government Resolution of Consent. Pursuant to 7 CFR 1740.60(c)(19), a certification from the appropriate Tribal official is required if service is being proposed over or on Tribal Lands. The appropriate certification is a Tribal Government Resolution of Consent. The appropriate Tribal official is the Tribal Council of the Tribal Government with jurisdiction over the Tribal Lands at issue. Resolutions of Tribal Consent will be required where Tribal lands are identified in the ReConnect mapping tool. Resolutions of Tribal Consent are not required when a Federally Recognized Tribe is the applicant on its own Tribal Land. Any non-Tribal applicant that fails to provide a certification to provide service on the Tribal Lands identified in the PFSA will not be considered for funding. The intent of the Tribal Consent is to ensure upfront that Federally Recognized Tribes being served by a non-tribal applicant authorize the application in a legally-binding manner AND the construction of broadband infrastructure on their lands if an award is made. It is not intended to limit participation of Tribes in other Federal broadband programs that complement a USDA funded project. However, all environmental, permitting and rights of way requirements must still be completed, and adhered to, by applicants prior to initiating construction on Tribal Lands. Therefore, ongoing communication and collaboration will be required to ensure the timely, and mutually agreeable, build out of the funded infrastructure. As appropriate, during the application review process, USDA staff may contact applicants and Tribes to confirm Tribal consent. Applicants and Tribes that have questions regarding this process are encouraged to contact Telecom Program staff, USDA Rural Development's Tribal Relations Team or USDA's Office of Tribal Relations.

3. System for Award Management and Unique Entity Identifier.

a. At the time of application, each applicant must have an active registration in the System for Award Management (SAM) before submitting its application in accordance with 2 CFR part 25. In order to register in SAM, entities will be required to obtain a Unique Entity Identifier (UEI). Instructions for obtaining the UEI are available at sam.gov/content/entity-registration.

b. Applicants must maintain an active SAM registration, with current, accurate and complete information at all times during which they have an active Federal award, or an application under consideration by a Federal awarding agency.

c. Applicants must ensure they complete the Financial Assistance General Certifications and Representations in SAM.

d. Applicants must provide a valid UEI in its application, unless determined exempt under 2 CFR 25.110.

e. The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

a. Beginning on March 22, 2024, applications can be submitted through the RUS on-line application portal until 11:59 a.m. Eastern on April 22, 2024.

b. If the submission deadline falls on Saturday, Sunday, or a federal holiday, the application is due the next business day. Late or incomplete applications will not be accepted.

c. The Agency will not solicit or consider new scoring or eligibility information that is submitted after the application deadline. However, RUS reserves the right to ask applicants for clarifying information and additional verification of assertions in the application.

5. Intergovernmental Review. Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally recognized Indian Tribes are not subject to this requirement. The Agency will ensure compliance with the Executive Order 14112 “Reforming Federal Funding and Support for Tribal Nations to Better Embrace our Trust Responsibility and Promote the Next Era of Tribal Self-Determination”.

6. Funding Requirements.

a. Eligible cost requirements are outlined in 7 CFR 1740.12. Additionally, award funds may be used for the following purposes:

i. To fund reasonable preapplication expenses in an amount not to exceed five percent of the award. The costs associated with satisfying the environmental review requirements are also eligible for reimbursement as pre-application expenses. Up to three percent of the requested award funds can be used for this purpose. Please note that any environmental expenses will count as part of the overall five percent that is allowable for pre-application expenses. If an applicant applied for funding in ReConnect Round Four, preapplication expenses may be eligible for reimbursement if these expenses support the application in response to this notice, such as engineering design, market survey, and subscriber projections. Note, however, that RUS, in its sole discretion, reserves the right to accept or reject expenses associated with round four. Otherwise, preapplication expenses may only be reimbursed if they are incurred after the publication date of this notice and are properly documented. Preapplication expenses must be included in the first request for award funds and will be funded with either grant or loan funds. If the funding category applied for has a grant component, then grant funds will be used for this purpose.

ii. To fund up to three percent of the requested amount for post-award monitoring expenses that may be required to mitigate the environmental effects of the project, as long as such costs are capitalized as part of the project. These costs must be specified in the Professional Services section of Capital Investment Workbook included as part of the application system.

iii. To fund pole attachment fees associated with the construction of the project throughout the five-year construction period. In addition, if the pole owner requires that a pole be replaced to support the broadband facilities, such costs shall be eligible.

b. Use of funds for this program shall comply with requirements outlined in the Secure and Trusted Communications Networks Act of 2019, Public Law 116-124. Listed equipment and services covered by Section 2 of The Secure and Trusted Communications Networks Act are prohibited. See fcc.gov/supplychain/coveredlist for details.

c. Ineligible cost requirements are outlined in 7 CFR 1740.12. Additionally, award funds may not be used for the following purposes:

i. To fund projects proposing to use unlicensed wireless facilities.

ii. To fund grant costs of a vendor that has both designed and is to construct the proposed project. If the project has already been designed, then only such costs will be eligible for that vendor and the applicant must procure construction from another entity not related to the vendor. If an applicant is applying for a 100% loan and wishes to use the same vendor for design and construction, supporting documentation must be provided that demonstrates that this arrangement is the most economical way to get the broadband facilities constructed. Note, however, that the agency reserves the right not to accept such documentation, and as a result, the applicant must procure construction from another entity not related to the vendor. An applicant applying for a loan, grant, or a combination loan-grant, can use qualified in-house staff for both the design and construction of the broadband facilities.

3. Other Submission Requirements.

a. Applications must be submitted through the Agency's online application system located on the ReConnect web page, usda.gov/reconnect. All materials required for completing an application are included in the online system. Please note there are a number of supporting documents that will need to be uploaded through the application system.

b. Applicants can submit only one application. Applicants may start multiple applications in the system but only one can be submitted.

c. A parent company that has subsidiaries applying for funding based on the parent's audited financials can only guarantee one application for funding under this notice. If multiple subsidiaries apply based on the same parent audited financial statement, at the agency's discretion, only one application can be funded.

d. Applications and supporting documents will not be accepted through mail or courier delivery, in-person delivery, fax, or electronic mail.

e. Applicants who believe that non-rural areas within their proposed service territory are “rural in character” must follow 7 U.S.C. 1991(a)(13)(D) in order for such areas to be considered eligible. Note that such a determination takes time, so applicants are encouraged to start this process immediately.

f. For this notice only, applicants are not required to submit a legal opinion as part of the application. Applicants that receive an award must still provide the legal opinion as part of closing the award.

g. Applicants that use alternative household data in the online mapping tool must provide supporting documentation to justify the use of such data, so that the number of households within the PFSA can be verified by USDA.

h. For corporations and limited liability entities, awards with a loan component must be secured by all assets of the Awardee. As a result, applicants must submit a certification that their existing lender or lienholder on any of its asset has already agreed to sign the RUS' standard intercreditor agreement or co-mortgage found on the Agency's web page at usda.gov/reconnect.

E. Application Review Information

1. Evaluation Criteria

a. Application for a 100 percent loan. One hundred (100) percent loan applications are not scored or ranked competitively. Applications will be processed and awarded on a rolling basis. In the event two loan applications are received for the same PFSA, the application submitted first will be considered first.

b. Application for 100 percent grants and loan/grant Combinations. One hundred (100) percent grant applications and combination loan/grant applications will be scored based on the following criteria:

i. Rurality of PFSA (25 Points). Points will be awarded for serving the least dense rural areas as measured by the population of the PFSA per square mile or if the PFSA is located at least one hundred miles from a city or town that has a population of greater than 50,000 inhabitants. If multiple service areas are proposed, the density calculation will be made on the combined areas as if they were a single area and not the average densities. For population densities of 6 or less or if the PFSA is located one hundred miles from a city or town of 50,000, 25 points will be awarded.

ii. Economic need of the community (20 Points). Economic need is based on the county poverty percentage of the PFSA in the application. The percentages must be determined by utilizing the United States Census Small Area Income and Poverty Estimates (SAIPE) Program. For applications where 75 percent of the PFSA(s) are proposing to serve communities with a SAIPE score of 20 percent or higher, 20 points will be awarded. Tribal applicants can request alternative scoring consideration by submitting more granular Tribal specific census data using the census.gov/tribal tool. Proposed funded service areas located in geographic areas for which no SAIPE data exist will be determined to have an average SAIPE poverty percentage of 30 percent. Such geographic areas may include territories of the United States or other locations eligible for funding through the ReConnect Program. A GIS layer identifying SAIPE areas can be found in the RUS mapping tool located at usda.gov/reconnect.

iii. Affordability (20 Points). Applications can receive 20 points if, in their service offerings, they include at least one low-cost option offered at speeds that are sufficient for a household with multiple users to simultaneously telework and engage in remote learning.

iv. Labor Standards (20 points). It is important that necessary investments in broadband infrastructure be carried out in ways that produce high-quality infrastructure, avert disruptive and costly delays, and promote efficiency. The Agency understands the importance of promoting workforce development and encourages recipients to ensure that broadband projects use strong labor standards, consistent with Tribal laws when projects propose to build infrastructure on Tribal Lands. Using these practices in construction projects not only promotes effective and efficient delivery of high-quality infrastructure and supports the economic recovery through employment opportunities for workers but may also help to ensure a reliable supply of skilled labor that would minimize disruptions, such as those associated with labor disputes or workplace injuries. Applicants should include in their applications a description of whether and, if so, how the project will incorporate three categories of strong labor standards and protections:

(1) Strong labor standards: whether workers (including employees of contractors and subcontractors) will be paid wages at or above the prevailing rate; ¹ whether the project will be covered by a project labor agreement; and/or whether the project will use a unionized project workforce;

¹ This means that all laborers and mechanics employed by contractors and subcontractors in the performance of such project are paid wages at rates not less than those prevailing, as determined by the U.S. Secretary of Labor in accordance with subchapter IV of chapter 31 of title 40, United States Code (commonly known as the “Davis-Bacon Act”) or, for the corresponding classes of laborers and mechanics employed on projects of a character similar to the contract work in the civil subdivision of the State (or the District of Columbia) in which the work is to be performed, or by the appropriate state entity pursuant to a corollary state prevailing-wage-in-construction law (commonly known as “baby Davis-Bacon Acts”).

(2) Demonstrated compliance with and plans for future compliance with labor and employment laws: whether the applicant, has any violations of tribal, state or federal labor, workplace safety and health, or employment laws within the last five years; and/or whether the applicant, its contractors, or subcontractors will commit to union neutrality; and/or whether the applicant, its contractors, or subcontractors will commit to permitting workers to create worker-led health and safety committees that management will meet with upon reasonable request; and

(3) A plan to recruit and support an appropriately skilled, trained and credentialed workforce (including by contractors and subcontractors): whether work will be performed by a directly employed workforce or whether the employer has policies and practices in place to ensure employees of contractors and subcontractors are qualified; how the applicant will ensure use of an appropriately skilled workforce (e.g., through Registered Apprenticeships or other joint labor-management training programs that serve all workers, particularly those underrepresented or historically excluded); how the applicant will ensure use of an appropriately credentialed workforce (i.e., satisfying requirements for appropriate and relevant pre-existing occupational training, certification, and licensure); and/or whether a locally-based workforce will be used. In addition, the plan should include whether there are any partnerships with training providers, unions, or community colleges to support the recruitment and training of the workforce.

(4) For applicants that commit to strong labor standards, consistent with Tribal Laws when the project proposes to build infrastructure on Tribal Lands, 20 points will be awarded. An applicant requesting these points must incorporate components from each of the three categories above. Projects that propose to build infrastructure on Tribal Lands must follow Tribal Laws such as Tribal Employment Rights Ordinances to be in compliance with a ReConnect award, regardless of receiving points under this standard. The Agency reserves the right to adjust award amounts for unforeseen circumstances.

v. Tribal areas (15 Points). For applicants that are Tribal Governments or Tribal Government wholly-owned entities and, at least 75 percent of the geographical area of the PFSA(s) is on Tribal Lands, 15 points shall be awarded. For non-tribal governmental entities where at least 50 percent of the geographical area of the PFSA(s) is on Tribal Lands, 10 points shall be awarded. Tribal Lands will be analyzed using the GIS layers (Tribal Area (BIA LAR); Tribal Supplemental Area (BIA LAR); and Tribal Statistical Area (BIA)) in the RUS mapping tool located at reconnect.usda.gov. For applicants that are ANCs or Alaska Native Tribal Governments where at least 50 percent of the geographical area of the PFSA(s) is on Census Tribal areas in Alaska, 15 points shall be awarded. For non-ANC or non-Alaska Native Tribal Government entities where at least 50 percent of the geographical area of the PFSA(s) is on Census Tribal areas in Alaska, 10 points shall be awarded. Census Tribal areas in Alaska will be analyzed using the GIS layer (Alaska Census Tribal Areas) layer in the RUS mapping tools located at usda.gov/reconnect.

vi. Local governments, non-profits, and cooperatives (15 points). Applications submitted by local governments, non-profits, or cooperatives (including for projects involving public-private partnerships where the local government, non-profit, or cooperative is the applicant) will be awarded 15 points.

vii. Socially Vulnerable Communities (15 points). For applications where at least 75 percent of the PFSA(s) are proposing to serve Socially Vulnerable Communities, as defined in this notice, 15 points will be awarded.

viii. Net neutrality (10 points). For applicants that commit to net neutrality principles, 10 points will be awarded. A board resolution or its equivalent must be submitted in the application committing that the applicant's networks shall not (a) block lawful content, applications, services, or non-harmful devices, subject to reasonable network management; (b) impair or degrade lawful internet traffic on the basis of internet content, application, or service, or use of a non-harmful device, subject to reasonable network management; and (c) engage in paid prioritization, meaning the management of a broadband provider's network to directly or indirectly favor some traffic over other traffic, including through use of techniques such as traffic shaping, prioritization, resource reservation, or other forms of preferential traffic management, either (1) in exchange for consideration (monetary or otherwise) from a third party, or (2) to benefit an affiliated entity.

ix. Most Unserved Locations Per Square Mile (up to 10 points). In order to ensure the Agency prioritizes funding to States with the highest concentrations of Unserved Broadband Serviceable Locations (UBSLs) (by percentage and area), projects located in states that meet these criteria will receive 5 or 10 points. For this notice only, UBSLs are Broadband Serviceable Locations contained in the FCC's Broadband Serviceable Location Fabric that do not have access to a wired or licensed terrestrial fixed wireless broadband service at speeds of at least 25 Mbps downstream and 3 Mbps upstream. The states eligible for these points were determined by ranking states based upon the following criteria:

(1) The state percentage of UBSLs.

(2) The average area per UBSL in each state in square miles.

Projects in which at least 75% of the PFSA is located in states ranked 1 through 5 will receive 10 points. Those states are Alaska, Idaho, Montana, New Mexico, and Wyoming. Projects in which at least 75% of the PFSA is located in states ranked 6 thru 10 will receive 5 points. Those states are Arkansas, Mississippi, Nevada, South Dakota, and West Virginia. For projects in which 75% of the PFSA is located in more than one of these states, the application will receive the points associated with the highest scoring state.

2. Review Process

The Agency may contact service providers that submit a Public Notice Response (PNR) to validate their submission. Service providers should be prepared to: (1) Provide additional information supporting that the area in question has sufficient access to broadband service; (2) have a technician on site during the field validation by RUS staff; (3) run on-site tests with RUS personnel being present, if requested; and (4) provide copies of any test results that have been conducted in the last six months.

F. Federal Award Administration Information

1. Federal Award Notices.

a. General. RUS will notify applicants whose projects are selected for awards by sending out an award letter. The Agency reserves the right to offer applicants less than the funding requested. After an applicant accepts the offer, the Agency will send appropriate award documents (agreement and security document, note and mortgage for a loan) that contains all the terms and conditions for the award. An applicant must execute and return the award documents within the number of days specified in the award letter. The standard agreement documents are available on the ReConnect website Forms and Resources page: usda.gov/reconnect/forms-and-resources.

b. Advance of funds. For this notice, the advance of funds for a 50/50 loan/grant combination will be as follows: funds substituted for the loan component, if any, will be advanced first; loan funds will be advanced second; and grant funds will be advanced third. The advance of funds for 100 percent grants with a matching component will require the expenditure of a prorated amount of matching funds with respect to the amount of the advance request. As an example, a request for ten (10) percent of the grant funds will require evidence of the expenditure of ten (10) percent of the matching requirement.

c. Affordable Connectivity Program. To ensure that all Americans can access reliable, high-speed internet, this vital service must also be affordable. The FCC's Affordable Connectivity Program (ACP) is a benefit program that helps households afford the broadband service they need for work, school, healthcare, civic engagement, and economic opportunity. To make the ACP benefit available to eligible households, internet providers also need to participate in the program. Therefore, to ensure that rural households can take advantage of the ACP benefit, applicants selected for Federal funding under this notice will be required to apply to participate in the ACP before award funds are disbursed if additional funding is appropriated by Congress to continue the program, or any successor program. This requirement will also apply to any successor program to the ACP.

2. Administrative and National Policy Requirements. In addition to USDA's standard administrative and policy requirements outlined in the standard award agreements, mortgages, and notes for ReConnect awards, the following applies to awards under this notice:

a. Cybersecurity risk management. It is the policy of the United States to strengthen the security and resilience of its critical infrastructure against both physical and cyber threats. Applicants selected for Federal funding under this notice must demonstrate, prior to the signing of the award agreement, a concerted effort to consider and address cybersecurity risks consistent with the cybersecurity performance goals for critical infrastructure and control systems directed by the National Security Presidential Memorandum on Improving Cybersecurity for Critical Infrastructure Control Systems, or the current draft of these goals, found at cisa.gov/control-systems-goals-and-objectives.

b. Reporting.

i. All applications are subject to the requirements contained in 7 CFR 1740 subpart F.

ii. If the awardee is a non-Federal entity as defined in 2 CFR 200.1, the awardee shall provide an audit in accordance with 2 CFR 200 subpart F.

iii. If the awardee is a for-profit entity, an electric or telecommunications cooperative, or any other entity not covered by the definition of non-Federal entity in 2 CFR 200.1, the awardee shall provide an independent audit report in accordance with Agency guidelines and the award agreement.

iv. Awardees must report their broadband availability data to the FCC's Broadband Data Collection once the awarded project begins to offer service.

G. Federal Awarding Agency Contact(s)

For general inquiries regarding the ReConnect Program, contact Laurel Leverrier, Assistant Administrator, Telecommunications Program, Rural Utilities Service, U.S. Department of Agriculture (USDA), email: laurel.leverrier@usda.gov, telephone: (202) 720-9554.

H. Build America, Buy America

1. Funding to Non-Federal Entities. Funding to Non-Federal Entities, defined pursuant to 2 CFR 200.1 as any State, local government, Indian tribe, Institution of Higher Education, or nonprofit organization, shall be governed by the requirements of Section 70914 of the Build America, Buy America Act (BABAA) within Public Law 117-58. Section 70914 of BABAA requires all federal agencies, including USDA, to ensure that none of the funds provided under this program may be used for a project for infrastructure unless the iron and steel, manufactured products, and construction materials used in that infrastructure are produced in the United States. For more information on these requirements, see USDA Implementation of the BABA Act.

2. Funding to Entities that are not Non-Federal Entities. Funding to any entity that is not a Non-Federal entity shall be governed by the Agency's Buy American requirement at 7 CFR 1787.

I. Other Information

1. Paperwork Reduction Act. In accordance with the Paperwork Reduction Act of 1995 (44 U.S.C. chapter 35), the information collection requirements associated with the ReConnect Program, as covered in this notice, have been approved by the Office of Management and Budget (OMB) under OMB Control Number 0572-0152. This funding announcement does not create any new information collection requirements, nor does it change existing information collection requirements.

2. National Environmental Policy Act. All recipients under this notice are subject to the requirements of 7 CFR part 1970.

3. Civil Rights Act. All awards made under this notice are subject to Title VI of the Civil Rights Act of 1964 as required by the USDA (7 CFR part 15, subpart A and Section 504 of the Rehabilitation Act of 1973, Title VIII of the Civil Rights Act of 1968, Title IX, Executive Order 13166 (Limited English Proficiency), Executive Order 11246, and the Equal Credit Opportunity Act of 1974.

4. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Program information may be made available in languages other than English. Persons with disabilities who require alternative means of communication to obtain program information (e.g., Braille, large print, audiotape, American Sign Language) should contact the responsible Mission Area, agency, or staff office or the 711 Relay Service. To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

a. Mail: U.S. Department of Agriculture, Office of the Assistant Secretary for Civil Rights, 1400 Independence Avenue SW, Washington, DC 20250-9410; or

b. Fax: (833) 256-1665 or (202) 690-7442; or

c. Email: program.intake@usda.gov.

USDA is an equal opportunity provider, employer, and lender.

Andrew Berke,
Administrator, Rural Utilities Service, USDA Rural Development.

[FR Doc. 2024-03484 Filed 2-20-24; 8:45 am]

BILLING CODE 3410-15-P